FEDERAL ELECTION COMMISSION

Sunshine Act Meetings

AGENCY: Federal Election Commission.

DATE AND TIME: Thursday, June 16, 2016 at 10:00 a.m.

PLACE: 999 E Street NW., Washington, DC (Ninth Floor).

STATUS: This Meeting will be open to the public.

ITEMS TO BE DISCUSSED:

Correction and Approval of Minutes for May 19, 2016

Draft Advisory Opinion 2016-05: Huckabee for President, Inc.

Proposed Statement of Policy Regarding the Public Disclosure of Closed Enforcement Files

Other Rulemaking

REG 2016-02: Draft Interim Final Rules and Explanation and Justification: Civil Money Penalty Inflation Adjustments

Proposed Revisions to Forms 3, 3P, 3X, 6 and Instructions

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2016-14077 Filed 6-10-16; 11:15 am]

BILLING CODE 6715-01-P